DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Participant Feedback on Training Under the Cooperative Agreement for Mental Health Care Provider Education in HIV/AIDS Program (OMB No. 0930-0195)—Revision

The Substance Abuse and Mental Health Services Administration's (SAMHSA) Center for Mental Health Services (CMHS) intends to continue to conduct a multi-site assessment for the Mental Health Care Provider Education in HIV/AIDS Program. The education programs funded under this cooperative agreement are designed to disseminate knowledge of the psychological and neuropsychiatric sequelae of HIV/AIDS to both traditional (e.g., psychiatrists, psychologists, nurses, primary care physicians, medical students, and social workers) and non-traditional (e.g., clergy, and alternative health care workers) first-line providers of mental health services, in particular to providers in minority communities.

The multi-site assessment is designed to assess the effectiveness of particular training curricula, document the integrity of training delivery formats, and assess the effectiveness of the various training delivery formats. Analyses will assist CMHS in documenting the numbers and types of traditional and non-traditional mental health providers accessing training; the content, nature and types of training participants receive; and the extent to which trainees experience knowledge, skill and attitude gains/changes as a result of training attendance. The multi-site data collection design uses a two-tiered data collection and analytic strategy to collect information on (1) the organization and delivery of training, and (2) the impact of training on participants' knowledge, skills and abilities.

Minor changes to the feedback form instruments are requested based on based on a review and assessment of participant feedback form data collected over the past two years of the contract. CMHS identified some outdated and rarely-used response options for all participant response forms and the session reporting form and removed these items from the individual data collection tools. Table 1 shows the response options removed from the previous iterations of the MHCPE participant feedback forms and session reporting form.

Table 1—Changes to Participant Feedback Forms
Type of feedback form | Question no. | Change(s) | Reason for change
All Participant Feedback Forms (General Education, Neuropsychiatric, Adherence, Ethics) | Q7 Q8, Q9A | Removal of response option “other” Removal of response option “Dentist/Dental Assistant” | Rarely/never used response option(s). Rarely/never used response option(s).
Session Reporting Form | Q6 | Removal of the following response options: —State/Local Department of Public Welfare | Rarely/never used response option(s).
|  | —HMO/Managed Care Organization
|  | —Migrant Health Center
|  | —Other MHCPE Program
|  | —State/Local Department of Corrections
| Q11 | Removal of response option “Audio tapes” | Outdated response option.

Information about the organization and delivery of training will be collected from trainers and staff who are funded by these cooperative agreements/contracts, hence there is no respondent burden. All training participants will be asked to complete a brief feedback form at the end of the training session. CMHS anticipates funding up to 10 education sites for the Mental Health Care Provider Education in HIV/AIDS Program. The annual burden estimates for this activity are shown below in Table 2.

Table 2—Annual Burden Estimate
[Annualized burden estimates and costs—Mental Health Care Provider Education in HIV/AIDS Program (10 sites)]
Form | Number of respondents | Responses per respondent | Total responses | Hours per response | Total hour burden
All Sessions | One form per session completed by program staff/trainer
Session Report Form | 600 | 1 | 600 | 0.08 | 48
Participant Feedback Form (General Education) | 5,000 | 1 | 5,000 | 0.167 | 835
Neuropsychiatric Participant Feedback Form | 4,000 | 1 | 4,000 | 0.167 | 668
Adherence Participant Feedback Form | 1,000 | 1 | 1,000 | 0.167 | 167
Ethics Participant Feedback Form | 2,000 | 1 | 2,000 | 0.167 | 125
Total | 12,600 |  | 12,600 |  | 1,843

Written comments and recommendations concerning the proposed information collection should be sent by April 3, 2014 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-04745 Filed 3-3-14; 8:45 am]

BILLING CODE 4162-20-P